INTERNATIONAL TRADE COMMISSION

[Investigation No. 731-TA-1206 (Review)]

Diffusion-Annealed, Nickel-Plated Flat-Rolled Steel Products From Japan

Determination

On the basis of the record ¹ developed in the subject five-year review, the United States International Trade Commission (“Commission”) determines, pursuant to the Tariff Act of 1930 (“the Act”), that revocation of the antidumping duty order on diffusion-annealed, nickel-plated flat-rolled steel products from Japan would be likely to lead to continuation or recurrence of material injury to an industry in the United States within a reasonably foreseeable time.²

¹ The record is defined in sec. 207.2(f) of the Commission's Rules of Practice and Procedure (19 CFR 207.2(f)).

² Commissioners Randolph J. Stayin and Amy A. Karpel did not participate.

Background

The Commission, pursuant to section 751(c) of the Act (19 U.S.C. 1675(c)), instituted this review on April 1, 2019 (84 FR 12282) and determined on July 5, 2019 that it would conduct an expedited review (84 FR 39862, August 12, 2019).

The Commission made this determination pursuant to section 751(c) of the Act (19 U.S.C. 1675(c)). It completed and filed its determination in this review on September 26, 2019. The views of the Commission are contained in USITC Publication 4971 (September 2019), entitled Diffusion-Annealed, Nickel-Plated Flat-Rolled Steel Products from Japan: Investigation No. 731-TA-1206 (Review).

By order of the Commission.
Issued: September 26, 2019.
Lisa Barton,
Secretary to the Commission.

[FR Doc. 2019-21345 Filed 10-1-19; 8:45 am]

BILLING CODE 7020-02-P